DEPARTMENT OF TRANSPORTATION

Surface Transportation Board

[STB Finance Docket No. 34890; STB Finance Docket No. 34922]

PYCO Industries, Inc.—Feeder Line Application—Lines of South Plains Switching, Ltd. Co.; Keokuk Junction Railway Co.—Feeder Line Application—Lines of South Plains Switching, Ltd. Co.

AGENCY: Surface Transportation Board, DOT.

ACTION: Acceptance of feeder line application and setting of procedural schedule.

SUMMARY: The Board accepts the application of PYCO Industries, Inc. (PYCO) to purchase the entirety of the rail lines of South Plains Switching, Ltd. Co. (SAW) in Lubbock, TX, as complete under 49 U.S.C. 10907 and 49 CFR 1151. The Board also sets a procedural schedule, including the date for the filing of competing feeder line applications to purchase the entirety of SAW's rail lines.

DATES: Competing feeder line applications are due September 6, 2006.

ADDRESSES: Send an original and 10 copies of any competing application, conforming to the information requirements at 49 CFR 1151.3(a), to: Surface Transportation Board, 1925 K Street, NW., Washington, DC 20423-0001. In addition, one copy of any competing application must be served on: PYCO's representative, Charles H. Montange, 426 NW. 162nd Street, Seattle, WA 98177; KJRY's representative, William A. Mullins, Baker & Miller PLLC, 2401 Pennsylvania Avenue, NW., Suite 300, Washington, DC 20037; and SAW's representative, Thomas F. McFarland, 208 South LaSalle Street, Suite 1890, Chicago, IL 60604-1112.

FOR FURTHER INFORMATION CONTACT: Eric S. Davis, (202) 565-1608. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20607; e-mail: asapdc@verizon.net; telephone: (202) 306-4004. [Assistance for the hearing impaired is available through FIRS at 1-800-877-8339.]

Board decisions and notices are available on our Web site at http://www.stb.dot.gov.

Decided: August 16, 2006.
By the Board, David M. Konschnik, Director, Office of Proceedings.
Vernon A. Williams,
Secretary.

[FR Doc. E6-13898 Filed 8-21-06; 8:45 am]

BILLING CODE 4915-01-P